DEPARTMENT OF TRANSPORTATION

Federal Aviation Administration

14 CFR Part 39

[Docket No. FAA-2007-28748; Directorate Identifier 2007-NM-115-AD]

RIN 2120-AA64

Airworthiness Directives; McDonnell Douglas Model DC-10-10, DC-10-10F, DC-10-30F (KC-10A and KDC-10), DC-10-40F, MD-10-10F, and MD-10-30F Airplanes; and Model MD-11 and MD-11F Airplanes

AGENCY: Federal Aviation Administration (FAA), Department of Transportation (DOT).

ACTION: Notice of proposed rulemaking (NPRM).

SUMMARY: The FAA proposes to adopt a new airworthiness directive (AD) for certain McDonnell Douglas Model DC-10-10, DC-10-10F, DC-10-30F (KC-10A and KDC-10), DC-10-40F, MD-10-10F, and MD-10-30F airplanes; and Model MD-11 and MD-11F airplanes. This proposed AD would require installation of control cable freeze protection by making certain changes. This proposed AD results from reports of standing water on the horizontal pressure panel above the main and center landing gear wheel wells. We are proposing this AD to prevent the accumulation of ice on the flight control cables in the wheel wells. When the landing gear doors open or vibration in this area occurs, such ice accumulation could break off and can cause injury to people or damage to property on the ground, can affect landing gear controls and rear spar flight control systems, can cause damage to other control systems, and might cause loss of control of the airplane.

DATES: We must receive comments on this proposed AD by September 6, 2007.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: U.S. Department of Transportation, Docket Operations, M-30, West Building Ground Floor, Room W12-140, 1200 New Jersey Avenue, SE., Washington, DC 20590.

• Fax: (202) 493-2251.

• Hand Delivery: Room W12-140 on the ground floor of the West Building, 1200 New Jersey Avenue, SE., Washington, DC, between 9 a.m. and 5 p.m., Monday through Friday, except Federal holidays.

Contact Boeing Commercial Airplanes, Long Beach Division, 3855 Lakewood Boulevard, Long Beach, California 90846, Attention: Data and Service Management, Dept. C1-L5A (D800-0024), for the service information identified in this proposed AD.

FOR FURTHER INFORMATION CONTACT: Ken Sujishi, Aerospace Engineer, Cabin Safety/Mechanical and Environmental Systems Branch, ANM-150L, FAA, Los Angeles Aircraft Certification Office, 3960 Paramount Boulevard, Lakewood, California 90712-4137; telephone (562) 627-5353; fax (562) 627-5210.

SUPPLEMENTARY INFORMATION:

Comments Invited

We invite you to submit any relevant written data, views, or arguments regarding this proposed AD. Send your comments to an address listed in the ADDRESSES section. Include the docket number “FAA-2007-28748; Directorate Identifier 2007-NM-115-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review DOT's complete Privacy Act Statement in the Federal Register published on April 11, 2000 (65 FR 19477-78), or you may visit http://dms.dot.gov.

Examining the Docket

You may examine the AD docket on the Internet at http://dms.dot.gov, or in person at the Docket Operations office between 9 a.m. and 5 p.m., Monday through Friday, except Federal holidays. The Docket Operations office (telephone (800) 647-5527) is located on the ground level of the West Building at the DOT street address stated in the ADDRESSES section. Comments will be available in the AD docket shortly after the Docket Management System receives them.

Discussion

We have received reports of standing water on the horizontal pressure panel above the main and center landing gear wheel wells. The water leaks into the wheel wells and freezes. The existing design of the horizontal pressure panel has inadequate protection from water and ice accumulation. This condition, if not corrected, could result in the accumulation of ice on the flight control cables in the wheel wells due to water entering the horizontal pressure panel above the wheel wells and freezing. When the landing gear doors open or vibration in this area occurs, such ice accumulation could break off and can cause injury to people or damage to property on the ground, can affect landing gear controls and rear spar flight control systems, can cause damage to other control systems, and might cause loss of control of the airplane.

Relevant Service Information

We have reviewed the following service information:

Table—Service Information
Boeing Alert Service Bulletin— | For McDonnell Douglas model—
DC10-27A237, dated January 9, 2007 | DC-10-10, DC-10-10F, DC-10-30F (KC-10A and KDC-10), DC-10-40F, MD-10-10F, and MD-10-30F airplanes.
MD11-27A084, Revision 1, dated March 26, 2007 | MD-11 and MD-11F airplanes.

The service information describes procedures for installation of control cable freeze protection by making certain changes. The changes include the following:

• Installing redesigned control cable pressure seals and grommets on the horizontal pressure panel.

• Installing a “horseshoe dam” and a strap on the horizontal pressure panel.

• Applying tape to the electrical cable feedthroughs on the horizontal pressure panel.

• Changing the seals on the access doors of the center passenger compartment floor/main deck cargo floor panel.

Accomplishing the actions specified in the service information is intended to adequately address the unsafe condition.

FAA's Determination and Requirements of the Proposed AD

We have evaluated all pertinent information and identified an unsafe condition that is likely to exist or develop on other airplanes of this same type design. For this reason, we are proposing this AD, which would require accomplishing the actions specified in the service information described previously.

Costs of Compliance

There are about 387 airplanes of the affected design in the worldwide fleet. This proposed AD would affect about 283 airplanes of U.S. registry. The proposed actions would take about 40 work hours per airplane, at an average labor rate of $80 per work hour. Required parts would cost about $5,896 or $6,073 per airplane depending on the airplane configuration. Based on these figures, the estimated cost of the proposed AD for U.S. operators is between $2,574,168 and $2,624,259, or $9,096 or $9,273 per airplane depending on the airplane configuration.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

McDonnell Douglas: Docket No. FAA-2007-28748; Directorate Identifier 2007-NM-115-AD.

Comments Due Date

(a) The FAA must receive comments on this AD action by September 6, 2007.

Affected ADs

(b) None.

Applicability

(c) This AD applies to airplanes identified in Table 1 of this AD, certificated in any category.

Table 1.—Applicability
McDonnell Douglas model— | As identified in Boeing Alert Service Bulletin—
(1) DC-10-10, DC-10-10F, DC-10-30F (KC-10A and KDC-10), DC-10-40F, MD-10-10F, and MD-10-30F airplanes | DC10-27A237, dated January 9, 2007.
(2) MD-11 and MD-11F airplanes | MD11-27A084, Revision 1, dated March 26, 2007.

Unsafe Condition

(d) This AD results from reports of standing water on the horizontal pressure panel above the main and center landing gear wheel wells. We are issuing this AD to prevent the accumulation of ice on the flight control cables in the wheel wells. When the landing gear doors open or vibration in this area occurs, such ice accumulation could break off and can cause injury to people or damage to property on the ground, can affect landing gear controls and rear spar flight control systems, can cause damage to other control systems, and might cause loss of control of the airplane.

Compliance

(e) You are responsible for having the actions required by this AD performed within the compliance times specified, unless the actions have already been done.

Installation of Control Cable Freeze Protection

(f) Within 24 months after the effective date of this AD, install control cable freeze protection by making the changes specified in and in accordance with the Accomplishment Instructions of the applicable service bulletin identified in Table 1 of this AD.

Alternative Methods of Compliance (AMOCs)

(g)(1) The Manager, Los Angeles Aircraft Certification Office (ACO), FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Issued in Renton, Washington, on July 15, 2007.
Stephen P. Boyd,
Acting Manager, Transport Airplane Directorate, Aircraft Certification Service.

[FR Doc. E7-14150 Filed 7-20-07; 8:45 am]

BILLING CODE 4910-13-P